DEPARTMENT OF COMMERCE

International Trade Administration

[A-507-502]

Notice of Rescission of Antidumping Duty Administrative Review: Certain In-Shell Raw Pistachios From Iran

AGENCY: Import Administration, International Trade Administration, Department of Commerce.

SUMMARY: In response to requests from Tehran Negah Nima Trading Company, Inc., trading as Nima Trading Company, Inc. (Nima), an exporter of subject merchandise, California Pistachio Commission (petitioner), and Cal Pure Pistachios, Inc. (Cal Pure), an interested party to this proceeding, the U.S. Department of Commerce (the Department) initiated an administrative review of the antidumping duty order on certain in-shell raw pistachios (pistachios) from Iran. No other interested party requested a review of Nima. The period of review (POR) is July 1, 2003, through June 30, 2004. For the reasons discussed below, the Department is rescinding this administrative review.

EFFECTIVE DATE: April 7, 2005.

FOR FURTHER INFORMATION CONTACT: Angelica Mendoza at (202) 482-3019 or Abdelali Elouaradia at (202) 482-1374, respectively; AD/CVD Operations, Office 7, Import Administration, International Trade Administration, U.S. Department of Commerce, 14th Street and Constitution Avenue, NW., Washington, DC 20230.

SUPPLEMENTARY INFORMATION:

Background

On July 1, 2004, the Department published a notice of opportunity to request an administrative review of the antidumping duty order on pistachios from Iran, 69 FR 39903. On July 9, 2004, and July 27, 2004, we received requests from petitioner and Cal Pure, respectively, to conduct an administrative review of Nima's sales of pistachios to the United States during the POR. On July 30, 2004, Nima, an exporter of subject merchandise during the POR, requested that the Department conduct an administrative review of its sales of pistachios to the United States. On August 30, 2004, the Department initiated an administrative review of the antidumping duty order on pistachios from Iran for the period July 1, 2003, through June 30, 2004, in order to determine whether merchandise imported into the United States was sold at less than fair value by Nima. See Initiation of Antidumping and Countervailing Duty Administrative Review and Requests for Revocations in Part, 69 FR 52857.

On March 14, 2005, Nima filed a letter in which it requested that the Department rescind the instant administrative review. On March 15, 2005, Department officials contacted Nima's representative in order to clarify the intent of Nima's March 14, 2005, filing. During this conversation, Nima clarified that it had intended to withdraw its request for the current administrative review pursuant to section 351.213(d)(1) of the Department's regulations. See Memorandum to the File through Abdelali Elouaradia, Program Manager, Office 7, Telephone Conversation with Respondent's Representative, dated March 15, 2005. On March 24, 2005, both petitioner and Cal Pure also withdrew their requests for the instant review.

Rescission of Review

If a party that requested a review withdraws its request within 90 days of the date of publication of the notice of initiation of the requested review, the Secretary will rescind the review pursuant to 19 CFR 351.213(d)(1) of the Department's regulations. However, the Secretary may extend this time limit if the Secretary decides that it is reasonable to do so. The Department finds that it is reasonable to extend the time limit by which a party may withdraw its request for review in the instant proceeding. Given that all parties have withdrawn from, and thereby are no longer participating in, the instant review, we find it reasonable to accept the parties' withdrawals of their requests for review. The Department has not yet devoted considerable time and resources to this review, and the Department concludes that the withdrawals do not constitute an abuse of our procedures by the involved parties. Therefore, the Department is rescinding this administrative review of the antidumping duty order on pistachios from Iran.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

This notice also serves as a reminder to parties subject to administrative protective order (APO) of their responsibility concerning the disposition of proprietary information disclosed under APO in accordance with 19 CFR 351.305(a)(3) of the Department's regulations. Timely written notification of the return/destruction of APO materials or conversion to judicial protective order is hereby requested. Failure to comply with the regulations and the terms of an APO is a sanctionable violation.

This notice is in accordance with section 777(i)(1) of the Tariff Act of 1930, as amended, and 19 CFR 351.213(d)(4) of the Department's regulations.

Dated: April 1, 2005.
Barbara E. Tillman,
Acting Deputy Assistant Secretary for Import Administration.

[FR Doc. E5-1613 Filed 4-6-05; 8:45 am]

BILLING CODE 3510-DS-P